FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 011830-010.

Title: Indamex Cross Space Charter, Sailing and Cooperative Working Agreement.

Parties: CMA CGM S.A.; Hapag-Lloyd AG; Nippon Yusen Kaisha; Orient Overseas Container Line Limited.

Filing Party: Wayne R. Rohde, Esq.; Cozen O'Connor; 1200 Nineteenth Street NW.; Washington, DC 20036.

Synopsis: The amendment would revise the capacity of vessels to be deployed, and the vessel contributions of the parties.

Agreement No.: 012379.

Title: MOL/NMCC/WLS/LGL Space Charter Agreement.

Parties: Mitsui O.S.K. Lines, Ltd; Nissan Motor Car Carrier Co., Ltd.; World Logistics Service (U.S.A.), Inc.; Liberty Global Logistics.

Filing Party: Eric. C. Jeffrey, Esq.; Nixon Peabody LLP; 799 9th Street NW., Suite 500; Washington, DC 20001.

Synopsis: The agreement would authorize the parties to charter space to/from one another for the carriage of vehicles and other Ro/Ro cargo in the trade between the U.S. and all foreign countries.

Agreement No.: 012381.

Title: Walenius Wilhelmsen Logistics, AS/Liberty Global Logistics LLC Space Charter Agreement.

Parties: Wallenius Wilhelmsen Logistics, AS and Liberty Global Logistics LLC.

Filing Party: Brooke Shapiro, Esq: Winston& Strawn LLP; 200 Park Avenue; New York, NY; 10166.

Synopsis: The agreement would authorize the parties to charter space from one another in the trade between the U.S. and a foreign country.

By Order of the Federal Maritime Commission.
Dated: December 18, 2015.
Rachel E. Dickon,
Assistant Secretary.

[FR Doc. 2015-32322 Filed 12-23-15; 8:45 am]

BILLING CODE 6731-AA-P